DEPARTMENT OF DEFENSE

Office of the Secretary

[Transmittal Nos. 13-38]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-38 with attached transmittal and policy justification.

Dated: August 27, 2013.
Aaron Siegel,
Alternate OSD Federal Register Liaison Officer, Department of Defense.

BILLING CODE 5001-06-P

BILLING CODE 5001-06-C

Transmittal No. 13-38

Notice of Proposed Issuance of Letter of Offer Pursuant to Section 36(b)(1) of the Arms Export Control Act, as amended

(i) Prospective Purchaser: Kingdom of Saudi Arabia

(ii) Total Estimated Value:

Major Defense Equipment * | $ 0 billion.
Other | $1.2 billion.
TOTAL | $1.2 billion.

(iii) Description and Quantity or Quantities of Articles or Services under Consideration for Purchase: follow-on support and services for Royal Saudi Air Force (RSAF) aircraft, engines and weapons, to include contractor technical services, logistics support, maintenance support, spares, equipment repair, expendables, support and test equipment, communication support, precision measuring equipment, personnel training and training equipment, technical support, exercises, deployments and other related elements of program support services, U.S. Government and contractor technical and logistics support services, and other related elements of logistical and program support.

(iv) Military Department: Air Force (QAY)

(v) Prior Related Cases, if any:

FMS case GAG—$38.0M—4Apr10

FMS case QBJ—$224.0M—18Jul10

FMS case QBI—$250.0M—16Jun10

FMS case QAY—$147.4M—5Jun10

FMS case KDB—$120.0M—15Feb10

FMS case QAV—$23.0M—18Oct09

FMS case KCZ—$95.4M—27Feb07

FMS case QDE—$202.4M—15Mar06

FMS case QZQ—$54.3M—5May04

FMS case QZX—$62.4M—24Dec03

FMS case CCZ—$48.4M—12Aug02

(vi) Sales Commission, Fee, etc., Paid, Offered, or Agreed to be Paid: None

(vii) Sensitivity of Technology Contained in the Defense Article or Defense Services Proposed to be Sold: None

(viii) Date Report Delivered to Congress: 22 August 2013

* As defined in Section 47(6) of the Arms Export Control Act.

POLICY JUSTIFICATION

Saudi Arabia—Sustainment and Support

The Government of Saudi Arabia has requested a possible sale of follow-on support and services for Royal Saudi Air Force (RSAF) aircraft, engines and weapons, to include contractor technical services, logistics support, maintenance support, spares, equipment repair, expendables, support and test equipment, communication support, precision measuring equipment, personnel training and training equipment, technical support, exercises, deployments and other related elements of program support services, U.S. Government and contractor technical and logistics support services, and other related elements of logistical and program support. The estimated cost is $1.2 billion.

This proposed sale will contribute to the foreign policy and national security of the United States by helping to improve the security of a friendly country which has been and continues to be an important force for political stability and economic progress in the Middle East.

Saudi Arabia needs this follow on maintenance and logistical support to sustain the combat and operational readiness of its existing aircraft fleet.

The proposed sale of this support and services will not alter the basic military balance in the region.

There is no prime contractor involved in this proposed sale. There are no known offset agreements proposed in connection with this potential sale.

Implementation of this sale will not require the assignment of any additional U.S. Government personnel or contractor representatives to Saudi Arabia.

There will be no adverse impact on U.S. defense readiness as a result of this sale.

[FR Doc. 2013-21267 Filed 8-30-13; 8:45 am]

BILLING CODE 5001-06-P